DEPARTMENT OF ENERGY

Federal Energy Regulatory Commission

[Docket No. RP00-359-001]

Koch Gateway Pipeline Company; Compliance Filing

August 18, 2000.

Take notice that on August 11, 2000, Koch Gateway Pipeline Company (Koch) tendered for filing as part of its FERC Gas Tariff, Volume No. 1, the following tariff sheets, to become effective July 31, 2000.

Fifth Revised Volume No. 1

Substitute Fourth Revised Sheet No. 4000

Substitute Second Revised Sheet No. 4001

Substitute Original Sheet No. 4002

Koch states that it filed the above reference tariff sheets in compliance with the Commission's Order Accepting Tariff Sheets, Subject to Conditions, issued on July 26, 2000, in Docket No. RP00-359. The proposed tariff changes allow for an Internet auction process created for its Interruptible Storage Service (ISS) and its Parking and Lending Service (PAL).

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21597 Filed 8-23-00; 8:45 am]

BILLING CODE 6717-01-M